SECURITIES AND EXCHANGE COMMISSION

[File No. 500-1]

In the Matter of NewTech Brake Corp., Order of Suspension of Trading

April 17, 2013.

It appears to the Securities and Exchange Commission that there is a lack of current and accurate information concerning the securities of NewTech Brake Corp. because it has not filed any periodic reports since the period ended November 30, 2005.

The Commission is of the opinion that the public interest and the protection of investors require a suspension of trading in the securities of the above-listed company. Therefore, it is ordered, pursuant to Section 12(k) of the Securities Exchange Act of 1934, that trading in the securities of the above-listed company is suspended for the period from 9:30 a.m. EDT on April 17, 2013, through 11:59 p.m. EDT on April 30, 2013.

By the Commission.
Jill M. Peterson,
Assistant Secretary.

[FR Doc. 2013-09354 Filed 4-17-13; 11:15 am]

BILLING CODE 8011-01-P